ENVIRONMENTAL PROTECTION AGENCY

[EPA-HQ-OPP-2013-0480; FRL-9392-2]

Notice of Receipt of Requests for Amendments To Delete Uses in Certain Pesticide Registrations

AGENCY: Environmental Protection Agency (EPA).

ACTION: Notice.

SUMMARY: In accordance with the Federal Insecticide, Fungicide, and Rodenticide Act (FIFRA), EPA is issuing a notice of receipt of request for amendments by registrants to delete uses in certain pesticide registrations. FIFRA provides that a registrant of a pesticide product may at any time request that any of its pesticide registrations be amended to delete one or more uses. FIFRA further provides that, before acting on the request, EPA must publish a notice of receipt of any request in the Federal Register.

DATES: The deletions in Table 1 are effective August 26, 2013, because the registrants requested a waiver of the 180-day comment period, unless the Agency receives a written withdrawal request on or before August 26, 2013. The Agency will consider a withdrawal request postmarked no later than August 26, 2013.

Users of these products who desire continued use on crops or sites being deleted should contact the applicable registrant in Table 1 before August 26, 2013.

ADDRESSES: Submit your withdrawal request, identified by docket identification (ID) number EPA-HQ-OPP-2013-0480, by one of the following methods:

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on visiting the docket, along with more information about dockets generally, is available at http://www.epa.gov/dockets.

FOR FURTHER INFORMATION CONTACT: Christopher Green, Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

This action is directed to the public in general. Although this action may be of particular interest to persons who produce or use pesticides, the Agency has not attempted to describe all the specific entities that may be affected by this action.

B. How can I get copies of this document and other related information?

The docket for this action, identified by docket ID number EPA-HQ-OPP-2013-0480, is available either electronically through http://www.regulations.gov or in hard copy at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces receipt by the Agency of applications from registrants to delete uses in certain pesticide registrations. These registrations are listed in Table 1 of this unit by registration number, product name, active ingredient, and specific uses deleted.

Table 1—Requests for Amendments To Delete Uses in Certain Pesticide Registrations
EPA registration No. | Product name | Active ingredient | Delete from label
100-864 | Cyproconazole Technical | Cyproconazole | Directions for Use on Roses.
100-1132 | Envoke Herbicide | 2-Pyridinesulfonamide, N-[[(4,6-dimethoxy-2-pyrimidinyl)amino]carbonyl]-3-(2,2,2-trifluoroethoxy)-, monosodium salt, monohydrate | Use on Almonds, as well as all references made to application in the State of California.
100-1225 | Quadris Xtra Fungicide | Cyproconazole & Azoxystrobin | Directions for Use on Roses.
100-1226 | Alto 100SL Fungicide | Cyproconazole | Directions for Use on Roses
42182-1 | Microban Additive “B” | Triclosan | Use in Paints and Stains, Agricultural and Mulch Films and Paper Mulch.
42182-7 | Microban Additive “B” | Triclosan | Use in Paints and Stains, Agricultural and Mulch Films and Paper Mulch.
59106-1 | Bio-Clear 1000 | 2,2-Dibromo-3-nitrilopropionamide | “Once-through” Cooling water applications, Metal working fluids “high” exposure applications, Paints and Coatings, and Household/Institutional Cleaners/Detergents.
59106-5 | DBNPA Technical | 2,2-Dibromo-3-nitrilopropionamide | “Once-through” Cooling water applications, Metal working fluids “high” exposure applications, Paints and Coatings, and Household/Institutional Cleaners/Detergents.
59106-6 | Bio-Clear 2000 | 2,2-Dibromo-3-nitrilopropionamide | “Once-through” Cooling water applications, Metal working fluids “high” exposure applications, Paints and Coatings, and Household/Institutional Cleaners/Detergents.
59106-7 | Bio-Clear 5000 | 2,2-Dibromo-3-nitrilopropionamide | “Once-through” Cooling water applications, Metal working fluids “high” exposure applications, Paints and Coatings, and Household/Institutional Cleaners/Detergents.
83851-5 | Technical Imidacloprid | Imidacloprid | Use on Companion animals.

Users of these products who desire continued use on animals, crops, or sites being deleted should contact the applicable registrant before August 26, 2013, because the registrants requested a waiver of the 180-day comment period, to discuss withdrawal of the application for amendment. This 30-day period will also permit interested members of the public to intercede with registrants prior to the Agency's approval of the deletion.

Table 2 of this unit includes the names and addresses of record for all registrants of the products listed in Table 1 of this unit, in sequence by EPA company number.

Table 2—Registrants Requesting Amendments To Delete Uses in Certain Pesticide Registrations
EPA company No. | Company name and address
100 | Syngenta Crop Protection, LLC, P.O. Box 18300, Greensboro, NC 27419-8300.
42182 | Microban Products Company, 11400 Vanstory Drive, Huntersville, NC 28078.
59106 | Clearwater International, LLC, D/B/A Weatherford Engineered Chemistry, 2000 St. James Place, Houston, TX 77056.
83851 | AmTide, LLC, 21 Hubble, Irvine, CA 92618.

III. What is the Agency's authority for taking this action?

Section 6(f)(1) of FIFRA provides that a registrant of a pesticide product may at any time request that any of its pesticide registrations be amended to delete one or more uses. FIFRA further provides that, before acting on the request, EPA must publish a notice of receipt of any such request in the Federal Register. Thereafter, the EPA Administrator may approve such a request.

IV. Procedures for Withdrawal of Request

Registrants who choose to withdraw a request for use deletion must submit the withdrawal in writing to Christopher Green using the methods in ADDRESSES. The Agency will consider written withdrawal requests postmarked no later than August 26, 2013.

V. Provisions for Disposition of Existing Stocks

The Agency has authorized the registrants to sell or distribute product under the previously approved labeling for a period of 18 months after approval of the revision, unless other restrictions have been imposed, as in special review actions.

List of Subjects

Environmental protection, Pesticides and pests.

Dated: July 8, 2013.
Oscar Morales,
Director, Information Technology and Resources Management Division, Office of Pesticide Programs.

[FR Doc. 2013-17926 Filed 7-24-13; 8:45 am]

BILLING CODE 6560-50-P